FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 17, 2015.

A. Federal Reserve Bank of Minneapolis (Jacquelyn K. Brunmeier, Assistant Vice President) 90 Hennepin Avenue, Minneapolis, Minnesota 55480-0291:

1. Elizabeth J. Hyduke-Kelm, Golden Valley, Minnesota, individually and as co-Trustee of a trust benefiting Elizabeth J. Hyduke-Kelm, and Elizabeth J. Hyduke-Kelm as co-Trustee of three family trusts, Minneapolis, Minnesota; and Stephen P. Hyduke, individually and as co-Trustee of a trust benefiting Stephen P. Hyduke, Minneapolis, Minnesota; to each acquire voting shares of Duke Financial Group, Inc., Minneapolis, Minnesota, and thereby indirectly acquire voting shares of Peoples Bank of Commerce, Cambridge, Minnesota, and State Bank of New Prague, New Prague, Minnesota.

Board of Governors of the Federal Reserve System, March 30, 2015.
Michael J. Lewandowski,
Associate Secretary of the Board.

[FR Doc. 2015-07556 Filed 4-1-15; 8:45 am]

BILLING CODE CODE 6210-01-P